DEPARTMENT OF COMMERCE

National Oceanic and Atmospheric Administration

50 CFR Part 648

[Docket No. 000426114-0114-01; I.D. 072600D]

Fisheries of the Northeastern United States; Spiny Dogfish Fishery; Commercial Quota Harvested for Period 1

AGENCY: National Marine Fisheries Service (NMFS), National Oceanic and Atmospheric Administration (NOAA), Commerce.

ACTION: Commercial quota harvest for period 1.

SUMMARY: NMFS announces that the spiny dogfish commercial quota available in period 1 to the coastal states from Maine through Florida has been harvested. Commercial vessels may not land spiny dogfish from Maine through Florida for the remainder of the 2000 quota period 1 (through October 31, 2000). Regulations governing the spiny dogfish fishery require publication of this notification to advise the coastal states from Maine through Florida that the quota has been harvested and to advise vessel permit holders and dealer permit holders that no commercial quota is available for landing spiny dogfish in these states.

DATES: Effective August 1, 2000, 0001 hrs, local time, through October 31, 2000, 2400 hrs, local time.

FOR FURTHER INFORMATION CONTACT: Jennifer L. Anderson, Fishery Management Specialist, at (978) 281-9226.

SUPPLEMENTARY INFORMATION: Regulations governing the spiny dogfish fishery are found at 50 CFR part 648. The regulations require annual specification of a commercial quota that is allocated into two quota periods based upon percentages of the annual quota. The period 1 commercial quota (May through October) is distributed to the coastal states from Maine through Florida. The process to set the annual commercial quota is described in § 648.230.

The initial total commercial quota for spiny dogfish for the 2000 calendar year was set equal to 4,000,000 lb (1,814 mt) (65 FR 25887, May 4, 2000). The period 1 quota, which is equal to 57.9 percent of the annual commercial quota, was set at 2,316,000 lb (1,050 mt).

Section 648.231 requires the Regional Administrator Northeast Region, NMFS (Regional Administrator) to monitor the commercial spiny dogfish quota for each quota period and, based upon dealer reports, state data and other available information, to determine when the commercial quota has been harvested. NMFS is required to publish a notice in the Federal Register advising and notifying commercial vessels and dealer permit holders that, effective upon a specific date, the spiny dogfish commercial quota has been harvested and no commercial quota is available for landing spiny dogfish for the remainder of period 1. The Regional Administrator has determined, based upon dealer reports and other available information, that the spiny dogfish commercial quota for the 2000 period 1 has been harvested.

The regulations at § 648.4(b) provide that Federal spiny dogfish permit holders agree as a condition of the permit not to land spiny dogfish in any state after NMFS has published a notification in the Federal Register stating that the commercial quota for the period has been harvested and that no commercial quota for the spiny dogfish fishery is available. The Regional Administrator has determined that period 1 for spiny dogfish no longer has commercial quota available. Therefore, effective 0001 hrs local time, August 1, 2000, further landings of spiny dogfish in coastal states from Maine through Florida by vessels holding commercial Federal fisheries permits are prohibited through October 31, 2000, 2400 hrs local time. The quota for period 2 for commercial spiny dogfish harvest will open on November 1, 2000. Effective August 1, 2000, federally permitted dealers are also advised that they may not purchase spiny dogfish from federally permitted spiny dogfish permit holders that land in coastal states from Maine through Florida for the remainder of period 1 (through October 31, 2000).

Classification

This action is required by 50 CFR part 648 and is exempt from review under Executive Order 12866.

Authority: 16 U.S.C. 1801 et seq.

Dated: July 26, 2000.
Bruce Morehead,
Acting Director, Office of Sustainable Fisheries, National Marine Service.

[FR Doc. 00-19359 Filed 7-27-00; 3:50 pm]

BILLING CODE 3510-22-F